DEPARTMENT OF THE INTERIOR

Fish and Wildlife Service

[FWS-R2-ES-2021-N216; FXES11130200000-223-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by February 2, 2022.

ADDRESSES:

Document availability: Request documents by phone or email: Beth Forbus, 505-248-6681, beth_forbus@fws.gov.

Comment submission: Submit comments by email to fw2_te_permits@fws.gov. Please specify the permit you are interested in by number (e.g., Application No. CS1234567).

FOR FURTHER INFORMATION CONTACT: Beth Forbus, Supervisor, Classification and Restoration Division, 505-248-6681. Individuals who are hearing or speech impaired may call the Federal Relay Service at 1-800-877-8339 for TTY assistance.

SUPPLEMENTARY INFORMATION:

Background

With some exceptions, the Endangered Species Act (ESA; 16 U.S.C. 1531 et seq.) prohibits activities that constitute take of listed species unless a Federal permit is issued that allows such activity. The ESA's definition of “take” includes hunting, shooting, harming, wounding, or killing, but also such activities as pursuing, harassing, trapping, capturing, or collecting.

The ESA and our implementing regulations in the Code of Federal Regulations (CFR) at title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
CS0080862 | Harpo Faust, Saff Killingsworth; Tucson, Arizona | Acuña cactus (Echinomastus erectocentrus var. acunensis) | Arizona | Survey/monitor, collect | Harm, kill | New.
TE037155 | Bio-West, Inc.; Round Rock, Texas | Barton Springs salamander (Eurycea sosorum), Austin blind salamander (Eurycea waterlooensis), Ouachita rock pocketbook (Arcidens wheeleri), winged mapleleaf (Quadrula fragosa), Neosho mucket (Lampsilis rafinesqueana), Neosho madtom (Noturus placidus) | Arkansas, Oklahoma, Louisiana, Texas | Survey/monitor, capture, handle, collect, release | Harass, harm, kill | Amend.
TE67491A | Permits West, Inc., Santa Fe, New Mexico | Southwestern willow flycatcher (Empidonax traillii extimus), yellow-billed cuckoo (Coccyzus americanus) | Arizona, New Mexico, Colorado, Utah | Survey/monitor | Harass, harm | Renew, amend.
CS0082113 | U.S. Geological Survey, New Mexico Cooperative Fish and Wildlife Research Unit, Las Cruces, New Mexico | Gila chub (Gila intermedia), Gila topminnow (Poeciliopsis occidentalis occidentalis), spikedace (Meda fulgida), desert pupfish (Cyprinodon macularius) | Arizona, New Mexico | Survey, capture, handle | Harass, harm, kill | New.
TE006655 | Logan Simpson Design, Inc., Tempe, Arizona | Black-footed ferret (Mustela nigripes), southwestern willow flycatcher (Empidonax traillii extimus), Yuma clapper rail (Rallus longirostris yumanensis), Gila topminnow (Poeciliopsis occidentalis), razorback sucker (Xyrauchen texanus) | Arizona, New Mexico, Utah | Survey/monitor | Harass, harm | Renew, amend.
TE25781D | Atkins International Inc., Austin, Texas | Golden-cheeked warbler (Dendroica chrysoparia) | Texas | Presence/absence surveys, habitat assessment | Harass, harm | Renew, amend.
CS0082163 | Edwards Aquifer Recovery Implementation Program, San Antonio, Texas | Fountain darter (Etheostoma fonticola), Texas blind salamander (Eurycea rathbuni) | Texas | Capture, display for educational purposes | Harass, harm, capture | New.
TE91694B | Cramer, Steven; San Antonio, Texas | Huston toad (Bufo houstonensis), Texas prairie dawn (Hymenoxys texana) | Texas | Presence/absence surveys | Harass, harm | Renew, amend.
CS0081603 | Bureau of Land Management, Phoenix, Arizona | Southwestern willow flycatcher (Empidonax traillii extimus), yellow-billed cuckoo (Coccyzus americanus), desert pupfish (Cyprinodon macul), Gila chub (Gila intermedia), Gila topminnow (Poeciliopsis occidentalis occidentalis), lesser long-nosed bat (Leptonycteris curasoae yerbabuenae), Sonoran pronghorn (Antilocapra americana sonoriensis) | Arizona | Survey/monitor | Harass, harm | New.
CS0081216 | Lamont, Megan; Giddings, Texas | Golden-cheeked warbler (Dendroica chrysoparia) | Texas | Presence/absence protocol surveys | Harass, harm | New.
CS0079419 | Tucson Audubon Society, Tucson, Arizona | Southwestern willow flycatcher (Empidonax traillii extimus) | Arizona, New Mexico | Presence/absence protocol surveys and habitat assessments | Harass, harm | New.
TE11267C | Buschow, Marissa; Sugar Land, Texas | Golden-cheeked warbler (Dendroica chrysoparia), Houston toad (Bufo houstonensis) | Texas | Survey | Harass, harm | Amend.
TE75679D | Ramirez, Alex; San Antonio, Texas | Houston toad (Bufo houstonensis) | Texas | Survey | Harass, harm | Amend.
CS0080544 | Cook, Leneka; San Antonio, Texas | Golden-cheeked Warbler (Dendroica chrysoparia) | Texas | Presence/absence protocol surveys and habitat assessments | Harass, harm | New.
ESPER25781D | Atkins North America, Inc., Austin, Texas | Golden-cheeked warbler (Dendroica chrysoparia) | Texas | Presence/absence protocol surveys and habitat assessments | Harass, harm | Amend.
ESPER0018550 | Mowad, Gary; Scottsdale, Arizona | Ocelot (Leopardus pardalis), jaguarundi (Herpailurus yagouaroundi) | Texas | Camera monitoring using scents/attractants | Harass, harm | New.
ESPER0011772 | U.S. Forest Service—Coronado National Forest; Tucson, Arizona | Beardless chinchweed (Pectis imberbis) | Arizona | Seed collection | Collect | Amend.
ESPER0020702 | National Audubon Society—Arizona; Phoenix, Arizona | Yellow-billed cuckoo (Coccyzus americanus), Yuma clapper rail (Rallus longirostris yumanensis) | Arizona | Survey/monitor | Harass, harm | Amend.
ESPER0007529 | U.S. Forest Service—Gila National Forest; Silver City, New Mexico | Bald eagle (Haliaeetus leucocephalus), Gila chub (Gila intermedia), loach minnow (Tiaroga cobitis), spikedace (Meda fulgida), northern Mexican gartersnake (Thamnophis eques megalops), narrow-headed gartersnake (Thamnophis rufipunctatus), southwestern willow flycatcher (Empidonax traillii extimus), yellow-billed cuckoo (Coccyzus americanus) | New Mexico | Survey/monitor, capture/handle | Harass, harm | New.
ESPER0019716P | Boeing, Wiebke; Las Cruces, New Mexico | Pecos assiminea (Assiminea pecos) | New Mexico | Survey/monitor, capture | Harass, harm | New.
ESPER0020647 | National Park Service—Bandelier National Monument; Los Alamos, New Mexico | Jemez Mountains salamander (Plethodon neomexicanus) | New Mexico | Survey/monitor | Harass, harm | Renew.
ESPER822908 | Caesar Kleburg Wildlife Research Institute; Kingsville, Texas | Ocelot (Leopardus pardalis) | Texas | Trap, presence/absence surveys | Harass, harm | Renew.

Authority

We provide this notice under section 10 of the ESA (16 U.S.C. 1531 et seq.).

Amy L. Lueders,
Regional Director, Southwest Region, U.S. Fish and Wildlife Service.

[FR Doc. 2021-28443 Filed 12-30-21; 8:45 am]

BILLING CODE 4333-15-P